DEPARTMENT OF COMMERCE

International Trade Administration

[A-552-801]

Certain Frozen Fish Fillets From the Socialist Republic of Vietnam: Final Results of Antidumping Duty Administrative Review and Final Determination of No Shipments; 2017-2018

AGENCY: Enforcement and Compliance, International Trade Administration, Department of Commerce.

SUMMARY: The Department of Commerce (Commerce) determines that certain frozen fish fillets (fish fillets) from the Socialist Republic of Vietnam (Vietnam) were sold in the United States at less than normal value during the period of review (POR) August 1, 2017 through July 31, 2018.

DATES: Applicable April 29, 2020.

FOR FURTHER INFORMATION CONTACT: Javier Barrientos, AD/CVD Operations, Office V, Enforcement and Compliance, International Trade Administration, U.S. Department of Commerce, 1401 Constitution Avenue NW, Washington, DC 20230; telephone: (202) 482-2243.

SUPPLEMENTARY INFORMATION:

Background

On October 22, 2019, Commerce published the Preliminary Results of this administrative review.¹ From February 3, 2020 through February 11, 2020, we conducted verification of the questionnaire responses of NTSF Seafoods Joint Stock Company (NTSF).² On February 13, 2020, we extended the deadline for the final results of this review to April 17, 2020.³ Between March 18, 2020 and March 25, 2020, interested parties submitted case and rebuttal briefs.⁴ On April 15, 2020, we fully extended the deadline for issuance of these final results to April 20, 2020.⁵

¹ See Certain Frozen Fish Fillets From the Socialist Republic of Vietnam: Preliminary Results of the Antidumping Duty Administrative Review and Preliminary Determination of No Shipments; 2017-2018, 84 FR 56420 (October 22, 2019) (Preliminary Results) and accompanying Preliminary Decision Memorandum.

² See Memorandum, “Verification of the Questionnaire Responses of NTSF Seafoods Joint Stock Company in the 2017-2018 Administrative Review of Certain Frozen Fish Fillets from the Socialist Republic of Vietnam,” dated March 13, 2020.

³ See Memorandum, “Certain Frozen Fish Fillets from the Socialist Republic of Vietnam: Extension of Deadline for Final Results of Antidumping Duty Administrative Review,” dated February 13, 2020.

⁴ See Petitioners' Letter, “Certain Frozen Fish Fillets from the Socialist Republic of Vietnam: Case Brief,” dated March 18, 2020; NTSF's Letter, “Frozen Fish Fillets from Vietnam: NTSF's Case Brief,” dated March 18, 2020; IDI's Letter, “Administrative Review of AD Order on Certain Frozen Fish Fillets from the Socialist Republic of Vietnam (08/01/17-07/31/18): IDI Case Brief,” dated March 18, 2020; Petitioners' Letter, “Certain Frozen Fish Fillets from the Socialist Republic of Vietnam: Rebuttal Brief,” dated March 23, 2020; and NTSF's Letter, “Certain Frozen Fish Fillets from Vietnam: Rebuttal Brief,” March 23, 2020.

⁵ See Memorandum, “15th Administrative Review of the Antidumping Duty Order on Certain Frozen Fish Fillets from Vietnam: Extension of Deadline for Final Results of Antidumping Duty Administrative Review,” dated April 15, 2020.

Scope of the Order

The product covered by the order is frozen fish fillets, including regular, shank, and strip fillets and portions thereof, whether or not breaded or marinated, of the species Pangasius Bocourti, Pangasius Hypophthalmus (also known as Pangasius Pangasius) and Pangasius Micronemus. For a complete description of the scope of this order, see the Issues and Decision Memorandum.⁶

⁶ See Memorandum, “Certain Frozen Fish Fillets from the Socialist Republic of Vietnam: Issues and Decision Memorandum for the Final Results of the Fifteenth Antidumping Duty Administrative Review; 2017-2018,” dated concurrently with, and hereby adopted by, this notice (Issues and Decision Memorandum) at 2-3.

Analysis of Comments Received

We addressed all issues raised in the case and rebuttal briefs filed by interested parties in the Issues and Decision Memorandum. A list of the issues parties raised is attached as Appendix I to this notice. The Issues and Decision Memorandum is a public document and is on file in the Central Records Unit (CRU), Room B8024 of the main Commerce building, as well as electronically via Enforcement and Compliance's Antidumping and Countervailing Duty Centralized Electronic Service System (ACCESS). ACCESS is available to registered users at http://access.trade.gov. In addition, a complete version of the Issues and Decision Memorandum can be accessed directly at http://enforcement.trade.gov/frn/index.html. The signed Issues and Decision Memorandum and the electronic version of the Issues and Decision Memorandum are identical in content.

Changes Since the Preliminary Results

Based on a review of the record and comments received from interested parties, and for the reasons explained in the Issues and Decision Memorandum, we applied certain changes to NTSF's antidumping margin. Accordingly, for these final results, Commerce also updated the antidumping margin assigned to the non-selected separate rate company, i.e., Can Tho Import Export Seafood Joint Stock Company (Caseamex). For a discussion of the above-referenced changes, see the “Changes Since the Preliminary Results” section of the Issues and Decision Memorandum.

Final Determination of No Shipments

In the Preliminary Results, Commerce preliminarily determined that Golden Quality Seafood Corporation, Nam Viet Corporation, Hoa Phat Seafood Import-Export and Processing J.S.C., To Chau Joint Stock Company, Fatifish Company Limited, and Godaco Seafood Joint Stock Company had no shipments during the POR. Consistent with Commerce's refinement to its assessment practice in non-market economy (NME) cases, we completed the review with respect to the above-named companies.⁷ Following the publication of the Preliminary Results, we received no comments from interested parties regarding these companies, nor has any party submitted record evidence which would call our preliminary no shipment determination into question. Therefore, for these final results, we continue to find that these six companies did not have any reviewable transactions during the POR. As noted in the “Assessment Rates” section below, Commerce intends to issue appropriate instructions to U.S. Customs and Border Protection (CBP) for the above-named companies based on the final results of this review.

⁷ See Non-Market Economy Antidumping Proceedings: Assessment of Antidumping Duties, 76 FR 65694, 65694-95 (October 24, 2011).

Separate Rates

In our Preliminary Results, we denied International Development and Investment Corporation (IDI) a separate rate.⁸ Based on information on the record, and for the reasons explained in the Issues and Decision Memorandum, we continue to find that IDI is not eligible for a separate rate.⁹ Thus, we find IDI to be part of the Vietnam-wide entity.

⁸ See Preliminary Results, 84 FR at 56421.

⁹ See Issues and Decision Memorandum at Comment 6.

We continue to find that the non-individually-examined exporter Caseamex and individually-examined respondent NTSF have demonstrated eligibility for separate rates. As noted below, we have assigned Caseamex the rate established for NTSF.

Vietnam-Wide Entity

In the Preliminary Results, Commerce found that certain companies for which a review was requested did not establish eligibility for a separate rate.¹⁰ We have not received any information since the issuance of the Preliminary Results that provides a basis for reconsidering this preliminary finding. Therefore, Commerce continues to find that these companies are part of the Vietnam-wide entity.¹¹

¹⁰ See Preliminary Results, 84 FR at 56421.

¹¹ See Appendix II.

Final Results of the Review

The weighted-average dumping margins for the final results of this administrative review are as follows:

¹² In the third administrative review of this order, Commerce determined that it would calculate per-unit assessment and cash deposit rates for all future reviews. See Certain Frozen Fish Fillets from the Socialist Republic of Vietnam: Final Results of Antidumping Duty Administrative Review and Partial Rescission, 73 FR 15479, 15481 (March 24, 2008).

Exporter | Weighted- average margin (dollars/ kilogram) ¹²
NTSF Seafoods Joint Stock Company (NTSF) | 0.15
Can Tho Import Export Seafood Joint Stock Company (Caseamex)* | 0.15
* Caseamex is a separate rate respondent not individually examined.

Assessment Rates

Pursuant to section 751(a)(2)(A) of the Act of 1930, as amended (the Act), and 19 CFR 351.212(b), Commerce has determined, and CBP shall assess, antidumping duties on all appropriate entries of subject merchandise in accordance with the final results of this review. Commerce intends to issue appropriate assessment instructions directly to CBP 15 days after publication of the final results of this administrative review.

We calculated importer (or customer)-specific assessment rates for merchandise subject to this review on a per-unit (i.e., per-kilogram) basis. Specifically, we calculated a per-unit assessment rate by aggregating the antidumping duties due for all U.S. sales to that importer (or customer) and divided this amount by the total quantity sold to that importer (or customer) during the POR. To determine whether the duty assessment rates are de minimis, in accordance with the requirement set forth in 19 CFR 351.106(c)(2), we calculate importer- (or customer-) specific ad valorem ratios based on the estimated entered value. If an importer (or customer)-specific assessment rate is de minimis (i.e., less than 0.50 percent), Commerce will instruct CBP to liquidate that importer's (or customer's) entries of subject merchandise without regard to antidumping duties. Pursuant to Commerce's assessment practice, for entries that were not reported in the U.S. sales database submitted by NTSF during this review, Commerce will instruct CBP to liquidate such entries at the Vietnam-wide entity rate.

For the separate rate company that was not selected for individual review, i.e., Caseamex, we assigned the company the margin of the mandatory respondent, NTSF. Where we determined that an exporter under review had no shipments of the subject merchandise to the United States during the POR, any suspended entries that entered during the POR under that exporter's case number will be liquidated at the Vietnam-wide rate.¹³ Additionally, we intend to instruct CBP to liquidate entries containing subject merchandise exported by the Vietnam-wide entity at the Vietnam-wide rate.

¹³ See Non-Market Economy Antidumping Proceedings: Assessment of Antidumping Duties, 76 FR 65694 (October 24, 2011).

Cash Deposit Requirements

The following cash deposit requirements will be effective upon publication of the final results of this administrative review for all shipments of subject merchandise entered, or withdrawn from warehouse, for consumption on or after the publication date, as provided for by section 751(a)(2) of the Act: (1) For the exporters listed above, the cash deposit rate will be the rate established in the final results of review; (2) for previously investigated or reviewed Vietnamese and non-Vietnamese exporters not listed above that have separate rates, the cash deposit rate will continue to be the exporter-specific rate published for the most recent period; (3) for all Vietnamese exporters of subject merchandise which have not been found to be entitled to a separate rate, the cash deposit rate will be the Vietnam-wide rate of $2.39 per kilogram; and (4) for all non-Vietnamese exporters of subject merchandise which have not received their own rate, the cash deposit rate will be the rate applicable to the Vietnamese exporters that supplied that non-Vietnamese exporter. The deposit requirements, when imposed, shall remain in effect until further notice.

Disclosure

We intend to disclose the calculations performed regarding these final results within five days of the date of publication of this notice to parties in this proceeding in accordance with 19 CFR 351.224(b).

Notification to Importers

This notice also serves as a final reminder to importers of their responsibility under 19 CFR 351.402(f) to file a certificate regarding the reimbursement of antidumping duties prior to liquidation of the relevant entries during this POR. Failure to comply with this requirement could result in Commerce's presumption that reimbursement of antidumping duties occurred and the subsequent assessment of doubled antidumping duties.

Administrative Protective Order

This notice also serves as a reminder to parties subject to administrative protective order (APO) of their responsibility concerning the return or destruction of proprietary information disclosed under APO in accordance with 19 CFR 351.305(a)(3), which continues to govern business proprietary information in this segment of the proceeding. Timely written notification of the return or destruction of APO materials, or conversion to judicial protective order, is hereby requested. Failure to comply with the regulations and terms of an APO is a violation which is subject to sanction.

Notification to Interested Parties

We are issuing and publishing these final results of administrative review in accordance with sections 751(a)(l) and 777(i) of the Act, and 19 CFR 351.221(b)(5).

Dated: April 20, 2020.
Jeffrey I. Kessler,
Assistant Secretary for Enforcement and Compliance.

Appendix I

List of Topics Discussed in the Issues and Decision Memorandum

I. Summary

II. Background

III. Scope of the Order

IV. Changes Since the Preliminary Results

V. Separate Rates

VI. Discussion of the Issues

Comment 1: Whether to Calculate a Margin for NTSF

Comment 2: Selection of Surrogate Country

Comment 3: Applying Adverse Facts Available (AFA) to NTSF Vinh Long's Farming Factors

Comment 4: Surrogate Value (SV) for Movement Expenses

Comment 5: Net-to-Gross-Weight Conversion for Movement Expenses

Comment 6: Whether to Grant IDI a Separate Rate

VII. Recommendation

Appendix II

Vietnam-wide Entity

1. An Giang Agriculture and Food Import-Export Joint Stock Company (also known as Afiex, An Giang Agriculture and Foods Import-Export Joint Stock Company, An Giang Agriculture and Food Import-Export Company, An Giang Agriculture and Foods Import and Export Company, or An Giang Agriculture and Foods Import-Export Company)

2. An My Fish Joint Stock Company (also known as Anmyfish or Anmyfishco)

3. An Phu Seafood Corporation (also known as ASEAFOOD or An Phu Seafood Corp.)

4. Asia Commerce Fisheries Joint Stock Company (also known as Acomfish JSC or Acomfish)

5. Binh An Seafood Joint Stock Company (also known as Binh An or Binh An Seafood Joint Stock Co.)

6. Cuu Long Fish Import-Export Corporation (also known as CL Panga Fish)

7. Cuu Long Fish Joint Stock Company (also known as CL-Fish, CL-FISH CORP, or Cuu Long Fish Joint Stock Company)

8. Da Nang Seaproducts Import-Export Corporation (also known as Da Nang or Da Nang Seaproducts Import/Export Corp.)

9. East Sea Seafoods LLC (also known as ESS LLC, ESS, ESS JVC, East Sea Seafoods Limited Liability Company, East Sea Seafoods Joint Venture Co., Ltd.)

10. Hiep Thanh Seafood Joint Stock Company (also known as Hiep Thanh or Hiep Thanh Seafood Joint Stock Co.)

11. International Development & Investment Corporation (also known as IDI or International Development and Investment Corporation)

12. Ngoc Ha Co. Ltd. Food Processing and Trading (also known as Ngoc Ha or Ngoc Ha Co., Ltd. Foods Processing and Trading)

13. Quang Minh Seafood Company Limited (also known as Quang Minh, Quang Minh Seafood Co., Ltd., or Quang Minh Seafood Co.)

14. Saigon-Mekong Fishery Co., Ltd. (also known as SAMEFICO or Saigon Mekong Fishery Co., Ltd.)

15. Sunrise Corporation

16. TG Fishery Holdings Corporation (also known as TG)

[FR Doc. 2020-09089 Filed 4-28-20; 8:45 am]

BILLING CODE 3510-DS-P